THE NATIONAL FOUNDATION ON THE ARTS AND THE HUMANITIES

The National Endowment for the Humanities; Meetings of Humanities Panel

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: October 2, 2008.

Time: 9 a.m. to 5 p.m.

Room: 415.

Program: This meeting will review applications for Archaeology and Anthropology in Preservation and Access Humanities Collections and Resources, submitted to the Division of Preservation and Access, at the July 31, 2008, deadline.

2. Date: October 7, 2008.

Time: 9 a.m. to 5 p.m.

Room: 415.

Program: This meeting will review applications for United States History and Culture I in Preservation and Access Humanities Collections and Resources, submitted to the Division of Preservation and Access, at the July 31, 2008, deadline.

3. Date: October 15, 2008.

Time: 9 a.m. to 5 p.m.

Room: 415.

Program: This meeting will review applications for Literature and Philosophy in Preservation and Access Humanities Collections and Resources, submitted to the Division of Preservation and Access, at the July 31, 2008, deadline.

4. Date: October 16, 2008.

Time: 9 a.m. to 5 p.m.

Room: 421.

Program: This meeting will review applications for America's Media Makers Grants Program in United States History, submitted to the Division of Public Programs, at the August 27, 2008, deadline.

5. Date: October 20, 2008.

Time: 9 a.m. to 5 p.m.

Room: 421.

Program: This meeting will review applications for America's Historical and Cultural Organizations Grants Program and the Interpreting America's Historic Places Grants Program, submitted to the Division of Public Programs, at the August 27, 2008, deadline.

6. Date: October 21, 2008.

Time: 9 a.m. to 5 p.m.

Room: 421.

Program: This meeting will review applications for America's Historical and Cultural Organizations Grants Program in Art History and Anthropology, submitted to the Division of Public Programs, at the August 27, 2008 deadline.

7. Date: October 21, 2008.

Time: 9 a.m. to 5 p.m.

Room: 415.

Program: This meeting will review applications for United States History and Culture II in Preservation and Access Humanities Collections and Resources, submitted to the Division of Preservation and Access, at the July 31, 2008 deadline.

8. Date: October 23, 2008.

Time: 9 a.m. to 5 p.m.

Room: 421.

Program: This meeting, which will be by teleconference, will review applications for America's Media Makers Grants Program in Foreign Cultures, submitted to the Division of Public Programs, at the August 27, 2008 deadline.

9. Date: October 27, 2008.

Time: 9 a.m. to 5 p.m.

Room: 421.

Program: This meeting will review applications for America's Historical and Cultural Organizations Grants Program in United States History, submitted to the Division of Public Programs, at the August 27, 2008 deadline.

10. Date: October 28, 2008.

Time: 9 a.m. to 5 p.m.

Room: 421.

Program: This meeting will review applications for America's Historical and Cultural Organizations Grants Program in American Studies, submitted to the Division of Public Programs, at the August 27, 2008 deadline.

11. Date: October 28, 2008.

Time: 9 a.m. to 5 p.m.

Room: 41.5

Program: This meeting will review applications for American Studies in Preservation and Access Humanities Collections and Resources, submitted to the Division of Preservation and Access, at the July 31, 2008 deadline.

12. Date: October 30, 2008.

Time: 9 a.m. to 5 p.m.

Room: 415.

Program: This meeting will review applications for Research and Development in Preservation and Access Humanities Collections and Resources, submitted to the Division of Preservation and Access, at the July 31, 2008 deadline.

13. Date: October 30, 2008.

Time: 9 a.m. to 5 p.m.

Room: 421.

Program: This meeting will review applications for America's Historical and Cultural Organizations Grants Program in Art History, submitted to the Division of Public Programs, at the August 27, 2008 deadline.

14. Date: October 30, 2008.

Time: 8:30 a.m. to 5 p.m.

Room: 315.

Program: This meeting will review applications for School Collaboration Projects in Picturing America, submitted to the Division of Education Programs, at the October 1, 2008 deadline.

15. Date: October 31, 2008.

Time: 9 a.m. to 5 p.m.

Room: 421.

Program: This meeting, which will be by teleconference, will review applications for America's Media Makers Grants Program in Radio, submitted to the Division of Public Programs, at the August 27, 2008 deadline.

Michael P. McDonald,
Advisory Committee Management Officer.

[FR Doc. E8-21446 Filed 9-12-08; 8:45 am]

BILLING CODE 7536-01-P